DEPARTMENT OF LABOR

Employment and Training Administration

[TA-W-61,201; TA-W-61,201A]

Photronics, Incorporated; Brookfield, CT Including an Employee of Photronics, Incorporated, Brookfield, CT, Who Received Wages Paid by PLI Management Corp., Located in Palm Bay, FL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 19, 2007, applicable to workers of Photronics, Inc., Brookfield, Connecticut. The notice was published in the Federal Register on May 9, 2007 (72 FR 26424).

At the request of the State agency, the Department reviewed the certification for workers of the subject firm. New information shows that a worker separation occurred involving an employee of the Brookfield, Connecticut facility of Photronics, Incorporated located in Palm Bay, Florida. Information also shows that PLI Management Corp. was contracted by the subject firm to provide payroll function services to workers employed on-site at the Palm Bay, Florida location of the subject firm.

Ms. Bonnie Mitchell provided sales function services for the production of photomasks produced by the subject firm.

Based on these findings, the Department is amending this certification to include an employee of the Brookfield, Connecticut facility of Photronics, Incorporated, located in Palm Bay, Florida whose wages were reported under a separate unemployment insurance (UI) tax account for by PLI Management Corp.

The intent of the Department's certification is to include all workers of Photronics, Incorporated, Brookfield, Connecticut who were adversely affected by increased imports.

The amended notice applicable to TA-W-61,201 is hereby issued as follows:

All workers of Photronics, Inc., Brookfield, Connecticut (TA-W-61,201), and including an employee of Photronics, Inc., Brookfield, Connecticut located in Palm Bay, Florida, who's wages were reported by PLI Management Corp. (TA-W-61,201A), who became totally or partially separated from employment on or after March 23, 2006, through April 19, 2009, are eligible to apply for adjustment assistance under Section 223 of the Trade Act of 1974 and are also eligible to apply for alternative trade adjustment assistance under Section 246 of the Trade Act of 1974.

Signed at Washington, DC this 15th day of May 2007.
Elliott S. Kushner,
Certifying Officer, Division of Trade Adjustment Assistance.

[FR Doc. E7-10017 Filed 5-23-07; 8:45 am]

BILLING CODE 4510-FN-P